DEPARTMENT OF TRANSPORTATION

New Mail Delivery/Document Filing Information Relating to Department of Transportation Informal Rulemaking Proceedings and Certain Preemption Determination Proceedings

AGENCY: Office of the Secretary, Department of Transportation.

ACTION: Notice.

SUMMARY: The Department of Transportation now is receiving all United States Postal Service (USPS) deliveries. However, actions taken over the last three months in response to the September 11 terrorist attacks and to contain the anthrax threat have significantly delayed or prevented our receipt of mail sent to DOT. These actions may have caused filings related to DOT informal rulemaking and certain preemption determination proceedings to arrive after the close of the comment period or not at all. We are providing notice of alternative methods for ensuring that your filings come to us. We also want to assure you that we will do everything that we can to consider comments that we otherwise would have received before the close of the comment period.

FOR FURTHER INFORMATION CONTACT: Gwyneth Radloff, Office of the General Counsel, 400 Seventh St. SW., Washington, DC 20590, (202) 366-9319. If you have questions on viewing or submitting material to the docket, call Dorothy Beard, Chief, Dockets, Department of Transportation, telephone 202-366-5149.

SUPPLEMENTARY INFORMATION: After the September 11, 2001, terrorist attacks, overnight shippers, e.g., FEDEX, advised the U.S. Department of Transportation (DOT) offices that they faced delivery delays because the airlines had been grounded. In addition, DOT requested that, beginning October 16, 2001, the United States Postal Service (USPS) halt most mail deliveries until it could put in place appropriate safety measures to address the potential threat from anthrax-contaminated mail. Mail caught in transit between October 13 and October 22 at DC's Brentwood Facility, where testers found traces of anthrax, may be part of quarantined mail that we might never receive (although we did get one delivery on October 22, 2001). Mail sent to DOT from mid-October to November 27 has been significantly delayed. DOT began receiving mail again on November 28. Even now, the USPS continues to irradiate first class and express mail bound for DOT. This means that we will receive mail after delays of a week or more. We do not know the full extent of the impact delayed or blocked mail delivery will have on our informal rulemaking proceedings and preemption determination proceedings for the Research and Special Programs Administration and Federal Motor Carrier Safety Administration.

We wish to advise the public that we will take this interruption of mail service into account, with respect to DOT rulemakings or preemption determination proceedings with comment periods that closed before mail delivery resumed on November 28, 2001. In some cases, where feasible, our agencies are extending or reopening comment periods. In other cases, we will do everything possible to ensure that we consider comments that we otherwise would have received before the close of the comment period. For example, we generally have the authority to consider late-filed comments and will do so to the extent practicable. We will also take note of the date of the USPS postmark for late-filed comments. Please note that Docket Office time stamps all items as they receive them.

Because we cannot be sure if we received filings sent just before October 13 or when, if ever, we will receive filings and comments caught in Brentwood between October 13 and November 27, please check our Dockets Web page (http://dms.dot.gov) to see if we received and processed your document(s). If your document is not in the electronic docket, we may not have received it. Please bear in mind that processing a document into the electronic system after receipt may take up to eight business days, especially since the DOT Mail Room must x-ray and screen all package deliveries prior to their acceptance into the DOT Docket Management System. If you do not have the electronic capability to check the docket, many public libraries have computers that you can use to electronically search the DOT dockets. Also, you can come to DOT and use the reading room computers in our Dockets Office, which is located on the Plaza level of the Nassif Building, 400 Seventh Street SW., Washington, DC, and is open between 9 a.m. and 5 p.m., Monday through Friday, except Federal holidays.

If your check of the docket reveals that we have not received your document, please fax us a copy at 202-493-2251 or resubmit your document with a notation that you are resending it. Please send it to the Docket Management Facility, U.S. Department of Transportation, room PL-401, 400 Seventh Street SW., Washington, DC 20590-0001. Please make sure the docket number is noted on the first page. We ask you to take these steps as soon as possible so that we will be able to consider your comments if we still can.

This notice addresses only preemption determination proceedings of the Research and Special Programs Administration and the Federal Motor Carrier Safety Administration and informal rulemaking proceedings conducted by any of the Department's agencies: the Bureau of Transportation Statistics, the Federal Aviation Administration, the Federal Highway Administration, the Federal Motor Carrier Safety Administration, the Federal Railroad Administration, the Federal Transit Administration, the Maritime Administration, the National Highway Traffic Safety Administration, the Office of the Secretary, the Research and Special Programs Administration, the St. Lawrence Seaway Development Corporation, and the U.S. Coast Guard.

We currently are accepting U.S. mail delivery by the USPS and deliveries from alternate delivery carriers. We also are accepting hand-delivered packages in the Docket Office, which is located on the Plaza level of the Nassif Building, 400 Seventh Street SW., Washington, DC, between 9 a.m. and 5 p.m., Monday through Friday, except Federal holidays. In addition, where possible, we encourage filers to use our Electronic Submission System on the DOT Dockets Web page (http://dms.dot.gov) by clicking on ES Submit and following the online instructions.

Issued in Washington, DC, on December 31, 2001.
Kirk K. Van Tine,
General Counsel.

[FR Doc. 02-657 Filed 1-9-02; 8:45 am]

BILLING CODE 4910-62-P